DEPARTMENT OF TRANSPORTATION

Coast Guard

33 CFR Part 165

[CGD09-02-521]

Safety Zone; Captain of the Port Milwaukee Zone

AGENCY: Coast Guard, DOT.

ACTION: Notice of implementation of regulation.

SUMMARY: The Coast Guard is implementing a safety zone for annual fireworks displays in the Captain of the Port Milwaukee Zone during October 2002. This action is necessary to provide for the safety of life and property on navigable waters during these events. These zones will restrict vessel traffic from a portion of the Captain of the Port Milwaukee Zone.

DATES: The safety zone for the Sheboygan South High School Fireworks—Sheboygan, WI (165.909(a)(29)) will be enforced on October 3, 2002, from 7:50 p.m. until 8:40 p.m., but in the event of inclement weather the safety zone will be enforced from 7:50 p.m. until 8:40 p.m. on October 4, 2002.

FOR FURTHER INFORMATION CONTACT: Marine Science Technician Chief Dave McClintock, U.S. Coast Guard Marine Safety Office Milwaukee, at (414) 747-7155

SUPPLEMENTARY INFORMATION: The Coast Guard is implementing the permanent safety zone in 33 CFR 165.909 (a)(29) (67 FR 44560, July 3, 2002) for fireworks displays in the Captain of the Port Milwaukee Zone during October 2002. The following safety zone is in effect for fireworks displays occurring in the month of October 2002:

Sheboygan South High School Fireworks—Sheboygan, WI. This safety zone will be enforced on October 3, 2002, from 7:50 p.m. until 8:40 p.m. In the event of inclement weather on October 3, 2002, the safety zone will be enforced from on October 4, 2002 from 7:50 p.m. until 8:40 p.m.

In order to ensure the safety of spectators and transiting vessels, this safety zone will be in effect for the duration of the event. Vessels may not enter the safety zone without permission from Captain of the Port Milwaukee Zone. Requests to transit the safety zone must be made in advance by contacting the person listed in FOR FURTHER INFORMATION CONTACT and must be approved by the Captain of the Port Milwaukee before transits will be authorized. Spectator vessels may anchor outside the safety zone but are cautioned not to block a navigable channel.

Dated: September 27, 2002.
M.R. DeVries,
Commander, Coast Guard, Captain of the Port Milwaukee.

[FR Doc. 02-25278 Filed 10-3-02; 8:45 am]

BILLING CODE 4910-15-P